COMMITTEE FOR PURCHASE FROM PEOPLE WHO ARE BLIND OR SEVERELY DISABLED

Notice of Correction

AGENCY: Committee for Purchase From People Who Are Blind or Severely Disabled.

ACTION: Notice of correction.

SUMMARY: The Committee for Purchase From People Who Are Blind or Severely Disabled published a document in the Federal Register of September 6, 2019 concerning a notice of Proposed Addition.

DATES: Comments must be received on or before: October 5, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION:

Correction

In the Federal Register of September 6, 2019, in FR Doc. 84 FR 46940-46941, the Committee published its intent to add Coat, Dress, Army Services Green Uniform, Men's, Classic Fit, Heritage Green to its Procurement List. Included in this listing were women's coat sizes, which should have been separately listed. The corrected listing is as follows:

NSN: 8415-00-SAM-4548 through 8415-00-SAM-4644

Coat, Dress, Army Services Green Uniform, Men's, Classic Fit, Heritage Green—Sizes: 33-XS, 34-XS, 35-XS, 36-XS, 37-XS, 38-XS, 39-XS, 40-XS, 41-XS, 42-XS, 33-S, 34-S, 35-S, 36-S, 37-3XS, 38-S, 39-S, 40-S, 41-S, 42-S, 43-S, 44-S, 45-S, 46-S, 47-S, 48-S, 49-S, 50-S, 51-S, 52-S, 54-S, 30-R, 31-R, 32-R, 33-R, 34-R, 35-R, 36-R, 37-R, 38-R, 39-R, 40-R, 41-R, 42-R, 43-R, 44-R, 45-R, 46-R, 47-R, 48-R, 49-R, 50-R, 51-R, 52-R, 54-R, 32-L, 33-L, 34-L, 35-L, 36-L, 37-L, 38-L, 39-L, 40-L, 41-L, 42-L, 43-L, 44-L, 45-L, 46-L, 47-L, 48-L, 49-L, 50-L, 51-L, 52-L, 54-L, 34-XL, 35-XL, 36-XL, 37-XL, 38-XL, 39-XL, 40-XL, 41-XL, 42-XL, 43-XL, 44-XL, 45-XL, 46-XL, 47-XL, 48-XL, 49-XL, 50-XL, 51-XL, 52-XL, 54-XL

NSN: 8415-00-SAM-4645 through 8415-00-SAM-4730

Coat, Dress, Army Services Green Uniform, Women's, Heritage Green—Sizes: 4-JR-P, 6-JR-P, 8-JR-P, 10-JR-P, 12-JR-P, 14-JR-P, 16-JR-P, 8-JR-R, 10-JR-R, 12-JR-R, 14-JR-R, 16-JR-R, 18-JR-R, 20-JR-R, 22-JR-R, 10-JR-T, 12-JR-T, 14-JR-T, 16-JR-T, 12-JR-XT, 14-JR-XT, 16-JR-XT, 4-M-P, 6-M-P, 8-M-P, 10-M-P, 12-M-P, 14-M-P, 16-M-P, 4-M-R, 6-M-R, 8-M-R, 10-M-R, 12-M-R, 14-M-R, 16-M-R, 18-M-R, 20-M-R, 22-M-R, 24-M-R, 26-M-R, 6-M-T, 8-M-T, 10-M-T, 12-M-T, 14-M-T, 16-M-T, 18-M-T, 20-M-T, 22-M-T, 24-M-T, 26-M-T, 16-M-XT, 18-M-XT, 20-M-XT, 4-W-P, 6-W-P, 8-W-P, 10-W-P, 12-W-P, 14-W-P, 16-W-P, 6-W-R, 8-W-R, 10-W-R, 12-W-R, 14-W-R, 16-W-R, 18-W-R, 20-W-R, 22-W-R, 6-W-T, 8-W-T, 10-W-T, 12-W-T, 14-W-T, 16-W-T, 18-W-T, 20-W-T, 22-W-T, 24-W-T, 26-W-T, 12-W-XT, 14-W-XT, 16-W-XT, 18-W-XT

Patricia Briscoe,
Deputy Director, Business Operations (Pricing and Information Management).

[FR Doc. 2019-19831 Filed 9-12-19; 8:45 am]

BILLING CODE 6353-01-P